SURFACE TRANSPORTATION BOARD

[Docket No. FD 36119]

Ellis & Eastern Company—Operation Exemption—Buffalo Ridge Regional Railroad Authority

Ellis & Eastern Company (Ellis), a Class III rail carrier, has filed a verified notice of exemption under 49 CFR 1150.41 to lease and operate approximately 41.44 miles of rail line from Buffalo Ridge Regional Railroad Authority (BRRRA). The rail line extends from approximately milepost 0.0, at the intersection with the main line of Union Pacific Railroad Company, at Agate, Minn., and milepost 41.44, at the intersection with the center line of the main track of BNSF Railway Company, near Manley, Minn., in Nobles and Rock Counties, Minn. (the Line).¹

¹ This transaction is related to a concurrently filed verified notice of exemption in Ellis & Eastern Co.—Acquisition & Operation Exemption—E & ER Co., Docket No. FD 36118, wherein Ellis seeks to acquire a 7.6-mile line of railroad from E & ER between Brandon, S.D., and Manley, Minn.

According to Ellis, Ellis and BRRRA have reached an agreement whereby Ellis will lease, operate, and maintain the trackage, right-of-way, and real property interests of the Line.

Ellis certifies that the projected annual revenues as a result of this transaction will not exceed $5 million and will not result in its becoming a Class I or Class II rail carrier. Ellis states that the proposed transaction does not include any provision that may limit Ellis' ability to interchange with a third-party carrier.

The proposed transaction may be consummated on or after June 7, 2017, the effective date of the exemption.

If the verified notice contains false or misleading information, the exemption is void ab initio. Petitions to revoke the exemption under 49 U.S.C. 10502(d) may be filed at any time. The filing of a petition to revoke will not automatically stay the effectiveness of the exemption. Petitions for stay must be filed no later than May 31, 2017 (at least seven days before the exemption becomes effective).

An original and 10 copies of all pleadings, referring to Docket No. FD 36119, must be filed with the Surface Transportation Board, 395 E Street SW., Washington, DC 20423-0001. In addition, a copy of each pleading must be served on John E. Taylor, Taylor Law Firm, LLC, 4820 East 57th St., Suite B, Sioux Falls, SD 57108.

Board decisions and notices are available on our Web site at “WWW.STB.GOV.”

Decided: May 19, 2017.
By the Board, Rachel D. Campbell, Director, Office of Proceedings.
Jeffrey Herzig,
Clearance Clerk.

[FR Doc. 2017-10652 Filed 5-23-17; 8:45 am]

BILLING CODE 4915-01-P